DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before May 9, 2007.

ADDRESSES: Written data or comments should be submitted to the U.S. Fish and Wildlife Service, Endangered Species Program Manager, California/Nevada Operations Office (CNO), 2800 Cottage Way, Room W-2606, Sacramento, California, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, at the above CNO address, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests.

Permit No. TE-144960

Applicant: Terry Strange, Wilseyville, California.

The applicant requests a permit to take (capture, and collect and kill) the Conservancy fairy shrimp (Branchinecta conservatio), the longhorn fairy shrimp (Branchinecta longiantenna), and the vernal pool tadpole shrimp (Lepidurus packardi), and to take (harass by survey, capture, and release) the California tiger salamander (Ambystoma californiense) in conjunction with surveys in Amador, Calaveras, Mariposa, Sacramento, San Joaguin, Stanislaus, and Tuolumne Counties, California for the purpose of enhancing their survival.

Permit No. TE-144965

Applicant: Brian Williams, Marysville, California.

The permittee requests a permit to take (harass by survey, capture, and release) the California tiger salamander (Ambystoma californiense) in conjunction with surveys throughout the range of the species in California for the purpose of enhancing its survival.

Permit No. TE-144966

Applicant: Christopher Green, Sacramento, California.

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-147691

Applicant: Arthur C. Gibson, Los Angeles, California.

The permittee requests a permit to remove/reduce to possession Astragalus brauntonii (Braunton's milk-vetch), Astragalus pycnostachyus var. lanosissima (Ventura marsh milk-vetch), and Astragalus tener var. titi (coastal milk-vetch), Cordylanthus maritimus ssp. Maritimus (salt marsh bird's beak), Dudleya cymosa var. marcescens (marcescent dudleya), Dudleya cymosa var. ovatifolia (Santa Monica Mountain dudleya), Orcuttia californica (California Orcutt grass), and Pentachaeta lyonii (Lyon's pentachaeta) from Federal lands in conjunction with scientific studies in Los Angeles and Ventura Counties, California, for the purpose of enhancing their survival.

Permit No. TE-802450

Applicant: Art Davenport, Barstow, California.

The applicant requests an amendment to take (harass by survey) the light footed clapper rail (Rallus longirostris levipes) in conjunction with surveys throughout the range of the species in California for the purpose of enhancing its survival.

Permit No. TE-146039

Applicant: Hildegarde Spautz, El Cerrito, California.

The applicant requests a permit to take (harass by survey and monitor) the California clapper rail (Rallus longirostris obsoletus) in conjunction with surveys, monitoring and other life history studies in Contra Costa, Alameda, San Mateo, San Francisco, Santa Clara, Marin, Sonoma, Solano, and Napa Counties, California for the purpose of enhancing their survival.

Permit No. TE-146051

Applicant: Wendy Renz, Albany, California.

The applicant requests a permit to take (capture, and collect and kill) the Conservancy fairy shrimp (Branchinecta conservatio) in conjunction with genetic research in Solano, Marin and Tehama Counties in California for the purpose of enhancing their survival.

Permit No. TE-147553

Applicant: Jeffrey Mitchell, San Francisco, California.

The permittee requests a permit to take (harass by survey, capture, and release) the California tiger salamander (Ambystoma californiense) in conjunction with surveys throughout in Contra Costa County, California for the purpose of enhancing its survival.

Permit No. TE-1476489

Applicant: Sara Throne, La Mesa, California.

The applicant requests a permit to take (survey by pursuit) the Quino checkerspot butterfly (Euphydryas editha quino) in conjunction with surveys throughout the range of the species in California for the purpose of enhancing its survival.

Permit No. TE-147652

Applicant: J. Hall Cushman, Rohnert Park, California.

The permittee requests a permit to take (survey by pursuit, capture, handle, remove from the wild, captive propagate, and release to the wild) the Smith's blue butterfly (Euphilotes enoptes smithi) in conjunction with surveys, propagation activities, and other life history studies in Monterey County, California for the purpose of enhancing their survival.

Permit No. TE-148555-0

Applicant: Phillip Brylski, Irvine, California.

The applicant requests a permit to take (capture and release) the Stephens' kangaroo rat (Dipodomys stephensi), the San Bernardino kangaroo rat (Dipodomys merriami parvus), and the Pacific pocket mouse (Perognathus longimembris pacificus) in conjunction with surveys throughout the range of the species in California for the purpose of enhancing their survival.

Permit No. TE-148556

Applicant: Deborah Van Dooremolen, Wilseyville, California.

The applicant requests an amendment to take (harass by survey) the Yuma clapper rail (Rallus longirostris yumanensis) in conjunction with surveys throughout the range of the species in Clark County, Nevada for the purpose of enhancing its survival.

Permit No. TE-148552

Applicant: Holley Sheply, Oakland, California.

The applicant requests a permit to take (harass by survey, capture, and mark) the San Francisco garter snake (Thamnophis sirtalis tetrataenia) in conjunction with surveys and monitoring activities throughout the range of the species in California, for the purpose of enhancing its survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: April 3, 2007.
Michael Fris,
Manager, California/Nevada Operations Office, U.S. Fish and Wildlife Service.

[FR Doc. E7-6592 Filed 4-6-07; 8:45 am]

BILLING CODE 4310-55-P